ENVIRONMENTAL PROTECTION AGENCY

40 CFR Parts 60 and 63

[EPA-HQ-OAR-2020-0371; FRL-8202-03-OAR]

RIN 2060-AU97

National Emission Standards for Hazardous Air Pollutants: Gasoline Distribution Technology Review and Standards of Performance for Bulk Gasoline Terminals Review

AGENCY: Environmental Protection Agency (EPA).

ACTION: Proposed rule; notice of data availability; request for comment; extending the comment period.

SUMMARY: The U.S. Environmental Protection Agency (EPA) is issuing a notice of data availability (NODA) and extending the comment period for proposed amendments to the National Emissions Standards for Hazardous Air Pollutants (NESHAP) for Gasoline Distribution facilities and the Standards of Performance for Bulk Gasoline Terminals and proposed New Source Performance Standards (NSPS). The original proposed rule was published on June 10, 2022, with a 60-day public comment period closing August 9, 2022. With this notification, EPA is extending the public comment period for an additional 30 days, until September 12, 2022.

DATES: The comment period for the proposed rule published June 10, 2022, at 87 FR 35608, is extended. Comments should be received by September 12, 2022.

ADDRESSES: EPA has established a docket for this action under Docket ID No. EPA-HQ-OAR-2020-0371. Follow the detailed instructions provided under ADDRESSES in the Federal Register document of June 10, 2022 (87 FR 35608) for the submission of comments.

FOR FURTHER INFORMATION CONTACT: Mr. Neil Feinberg, Sector Policies and Programs Division (E143-01), Office of Air Quality Planning and Standards, U.S. Environmental Protection Agency, Research Triangle Park, North Carolina 27711; telephone number: (919) 541-2214; fax number: (919) 541-0516; and email address: feinberg.stephen@epa.gov. For more information on this action please visit https://www.epa.gov/stationary-sources-air-pollution/gasoline-distribution-mact-and-gact-national-emission-standards.

SUPPLEMENTARY INFORMATION: The source categories subject to the June 10, 2022, proposal are Gasoline Distribution regulated under 40 CFR part 63, subparts R and BBBBBB and Petroleum Transportation and Marketing regulated under 40 CFR part 60, subpart XX. The EPA proposed revised requirements for loading operations, storage vessels and equipment leaks at bulk gasoline terminals and pipeline breakout stations at major sources of hazardous air pollutant emissions under the NESHAP for the major source gasoline distribution facilities (part 63, subpart R). The EPA also proposed revised requirements for loading operations, storage vessels and equipment leaks at area source bulk gasoline terminals, bulk gasoline plants, pipeline breakout stations, and pipeline pumping stations under the NESHAP for the area source gasoline distribution facilities (part 63, subpart BBBBBB). The sources affected by the proposed NSPS (part 60, subpart XXa) are loading operations and equipment leaks at bulk gasoline terminals that commenced construction or modification after June 10, 2022; emissions from storage vessels are covered under a separate NSPS (part 60, subpart Kb), which was not proposed to be amended.

On July 25, 2022, Our Children's Earth Foundation (“OCE”) requested an extension of the comment deadline for 30 to 45 days to review the proposed rules and supporting information included in the docket. OCE outlined several instances where they believed information appeared to be missing in the rulemaking docket. The EPA reviewed the rulemaking docket and concluded that, in most cases, the docket record was complete. However, we realized that we inadvertently omitted enforcement reports relied on for the proposed lower explosive limits (LEL) monitoring requirements included for internal floating roof storage vessels in that major and area source NESHAP. Following this request from OCE, EPA has decided to provide this notice of data availability (NODA) and comment period reopening to provide to notice and time for commenters to fully review the proposed rulemaking, including the additional information on LEL enforcement records that have been added to the docket after June 10, 2022. The comment period is being extended for 30 days, from August 12, 2022 to September 12, 2022.

Penny Lassiter,
Director, Sector Policies and Programs Division.

[FR Doc. 2022-17282 Filed 8-11-22; 8:45 am]

BILLING CODE 6560-50-P